DEPARTMENT OF THE INTERIOR

Bureau of Land Management

[NV-050-5853-ES; N-82826; 7-08807]

Notice of Realty Action; Recreation and Public Purposes Act Classification of Public Lands in Clark County, NV

AGENCY: Bureau of Land Management, Interior.

ACTION: Notice of Realty Action.

SUMMARY: The Bureau of Land Management (BLM) has examined and found suitable for classification for lease or subsequent conveyance under the provisions of the Recreation and Public Purposes (R&PP) Act, as amended, approximately 160 acres of public land in Clark County, Nevada. The City of Henderson proposes to use the land for recreational, civic, and municipal facilities.

DATES: Interested parties may submit written comments regarding the proposed lease/conveyance or classification of the lands until October 9, 2007.

ADDRESSES: Send written comments to the Field Manager, BLM Las Vegas Field Office, 4701 N. Torrey Pines Drive, Las Vegas, NV 89130.

FOR FURTHER INFORMATION CONTACT: Cheryl Cote, 702-515-5104.

SUPPLEMENTARY INFORMATION: The following described public land in Clark County, Nevada, has been examined and found suitable for classification for lease and subsequent conveyance under the provisions of the R&PP Act, as amended (43 U.S.C. 869 et seq.), and is hereby classified accordingly:

Mount Diablo Meridian, Nevada

T. 22 S., R. 63 E.

Sec. 16, SW¼.

The area described contains 160 acres, more or less, in Clark County.

In accordance with the R&PP Act, the City of Henderson filed an application for the above-described 160 acres of public land to be developed for recreational, civic, and municipal facilities. Recreational facilities will include a community park, programmable sports fields, an aquatics center, tennis courts, interpretive areas, and biking, running and hiking trails. The trail systems to be developed will connect to the city-wide trail system and ultimately, to the Clark County trail system. The plan also includes a multi-purpose senior center and municipal facilities. Additional detailed information pertaining to this application, plan of development, and site plans is in case file N-82826 located at the BLM Las Vegas Field Office, 4701 N. Torrey Pines Drive, Las Vegas, Nevada.

The land is not needed for any Federal purpose. The lease/conveyance is consistent with the Las Vegas Resource Management Plan dated October 5, 1998, and would be in the public interest. The lease/conveyance, when issued, will be subject to the provisions of the R&PP Act and applicable regulations of the Secretary of the Interior, and will contain the following reservations to the United States:

1. A right-of-way for ditches or canals constructed by the authority of the United States, Act of August 30, 1890 (43 U.S.C. 945); and

2. All minerals together with the right to prospect for, mine and remove such deposits from the same under applicable law and such regulations as the Secretary of the Interior may prescribe.

The lease/conveyance will be subject to all valid existing rights documented on the official public land records at the time of lease/patent issuance.

On August 24, 2007, the land described will be segregated from all other forms of appropriation under the public land laws, including the general mining laws, except for lease/conveyance under the R&PP Act, leasing under the mineral leasing laws, and disposal under the mineral material disposal laws.

Interested parties may submit comments involving the suitability of the land for recreational, civic, and municipal facilities. Comments on the classification are restricted to whether the land is physically suited for the proposal, whether the use will maximize the future use or uses of the land, whether the use is consistent with local planning and zoning, or if the use is consistent with State and Federal programs.

Interested parties may submit comments regarding the specific use(s) proposed in the application and plan of development, whether the BLM followed proper administrative procedures in reaching the decision to lease/convey under the R&PP Act, or any other factor not directly related to the suitability of the land for R&PP use.

Facsimiles, telephone calls, and electronic mail are unacceptable means of notification. Comments, including names and addresses of respondents, will be available for public review. Before including your address, telephone number, email address, or other personal identifying information in your comment, be advised that your entire comment—including your personal identifying information—may be made publicly available at any time. While you can ask us in your comment to withhold your personal identifying information from public review, we cannot guarantee that we will be able to do so.

Any adverse comments will be reviewed by the BLM Nevada State Director. In the absence of any adverse comments, the classification of the land described in this notice will become effective October 23, 2007. The lands will not be offered for lease/conveyance until after the classification becomes effective.

Authority: 43 CFR part 2740.

Dated: August 6, 2007.
Kimber Liebhauser,
Acting Assistant Field Manager, Non-Renewable Resources, Las Vegas Field Office, NV.

[FR Doc. E7-16351 Filed 8-23-07; 8:45 am]

BILLING CODE 4310-HC-P